DEPARTMENT OF THE INTERIOR

Bureau of Land Management

[AZ-040-00-1040-AE]

Notice of Meeting

AGENCY: Bureau of Land Management.

ACTION: Gila Box Riparian National Conservation Area Advisory Committee Meeting.

SUMMARY: The purpose of this notice is to announce the next meeting of the Gila Box Riparian National Conservation Area Advisory Committee Meeting. The purpose of the Advisory Committee is to provide informed advice to the Safford Field Manager on management of public lands in the Gila Box Riparian National Conservation Area. The committee meets as needed, generally between two and four times a year.

The meeting will begin at the Bureau of Land Management (BLM), Safford Field Office on April 7, 2000, commencing at 8:00 a.m. The meeting will consist of a two-day float trip down the Gila River within the Gila Box RNCA boundary to observe the compliance on vehicle closures within the Gila River corridor, livestock management, and discuss management of the recently acquired property at the confluence of Eagle Creek and the Gila River. A public comment period will be provided from 9:30 a.m. to 9:45 a.m. at the Old Safford Bridge boat put in site prior to departing for the float trip. The public is invited to participate on the float trip but must provide their own transportation to and from the field, rafting equipment, and personal gear. The field trip will depart at 8:00 a.m. on April 7, 2000 from the BLM Safford Field Office and arrive back at the BLM Safford Field Office at 4:00 p.m. on April 8, 2000.

DATE: Meeting will be held on April 7, 2000 starting at 8:00 a.m.

FOR FURTHER INFORMATION CONTACT: Jon Collins, Gila Box NCA Project Coordinator, Safford Field Office, 711 14th Ave., Safford AZ 85546, Telephone (520) 348-4400.

Dated: February 29, 2000.
Frank L. Rowley,
Acting Safford Field Manager.

[FR Doc. 00-6526 Filed 3-15-00; 8:45 am]

BILLING CODE 4310-32-M